DEPARTMENT OF HEALTH AND HUMAN SERVICES

National Institutes of Health

National Human Genome Research Institute; Amended Notice of Meeting

Notice is hereby given of a change in the meeting of the Genome Research Review Committee, June 8, 2007, 1 p.m. to June 8, 2007, 3 p.m., National Institutes of Health, 5635 Fishers Lane, Bethesda, MD 20892, which was published in the Federal Register on May 17, 2007, 72 FR 95, page 27822.

The GNOM-G telephone conference date is changed from June 8, 2007, to June 14, 2007. The meeting time remains 1 p.m. to 3 p.m. The meeting is closed to the public.

Dated: May 23, 2007.
Jennifer Spaeth,
Director, Office of Federal Advisory Committee Policy.

[FR Doc. 07-2663 Filed 5-29-07; 8:45 am]

BILLING CODE 4140-01-M